DEPARTMENT OF JUSTICE

Notice of Lodging of Proposed Consent Decree Under the Clean Air Act

On January 14, 2021, the Department of Justice lodged a proposed Consent Decree with the District Court of the Southern District of New York in a lawsuit entitled United States v. Toyota Motor Corporation, et al., Civil Action No. 21-323.

In this action the United States seeks, as provided under the Clean Air Act (“CAA”), civil penalties and injunctive relief from defendants in connection with violation of emission-defect reporting regulations promulgated at 40 CFR part 85, subpart T. The proposed Consent Decree resolves the United States' claims, requires defendants to pay $180 million, and imposes injunctive relief.

The publication of this notice opens the public comment on the proposed Consent Decree. Comments should be addressed to the Assistant Attorney General, Environment and Natural Resources Division, and should refer to United States v. Toyota Motor Corporation, et al., Civil Action No. 21-323, D.J. Ref. 90-5-2-1-11477. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please email your request and payment to: Consent Decree Library, U.S. DOJ-ENRD, P.O. Box 7611, Washington, DC 20044-7611.

Please enclose a check or money order for $9.25 (25 cents per page reproduction cost) payable to the United States Treasury.

Henry S. Friedman,
Assistant Section Chief, Environmental Enforcement Section, Environment and Natural Resources Division.

[FR Doc. 2021-01233 Filed 1-19-21; 8:45 am]

BILLING CODE 4410-15-P